NATIONAL AERONAUTICS AND SPACE ADMINISTRATION

[Notice (12-062)]

Government-Owned Inventions, Available for Licensing

AGENCY: National Aeronautics and Space Administration.

ACTION: Notice of availability of inventions for licensing.

SUMMARY: Patent applications on the inventions listed below assigned to the National Aeronautics and Space Administration, have been filed in the United States Patent and Trademark Office, and are available for licensing.

DATES: September 6, 2012.

FOR FURTHER INFORMATION CONTACT: Robert M. Padilla, Patent Counsel, Ames Research Center, Code 202A-4, Moffett Field, CA 94035-1000; telephone (650) 604-5104; fax (650) 604-2767.

NASA Case No.: ARC-16419-1: Stroboscopic Image Modulation to Reduce the Visual Blur of an Object Being Viewed by an Observer Experiencing Vibration;

NASA Case No.: ARC-16386-1: Visual Display and Comparison of Systems Operation in Different Modes;

NASA Case No.: ARC-16351-1: Movable Ground Based Recovery System for Reusable Space Flight Hardware;

NASA Case No.: ARC-16692-1: Fiber-Reinforced Composite Materials;

NASA Case No.: ARC-14569-2: Spatial Standard Observer;

NASA Case No.: ARC-16348-1: Co-Optimization of Blunt Body Shapes for Moving Vehicles;

NASA Case No.: ARC-15204-1: Rapid Polymer Sequencer.

Sumara M. Thompson-King,
Acting Deputy General Counsel.

[FR Doc. 2012-21912 Filed 9-5-12; 8:45 am]

BILLING CODE P